DEPARTMENT OF HOUSING AND URBAN DEVELOPMENT

[Docket No. FR-5187-N-36]

Data Collection for the Housing Counseling Outcome Evaluation

AGENCY: Office of the Chief Information Officer, HUD.

ACTION: Notice.

SUMMARY: The proposed information collection requirement described below has been submitted to the Office of Management and Budget (OMB) for review, as required by the Paperwork Reduction Act. The Department is soliciting public comments on the subject proposal.

The study is designed to gather statistically accurate information on outcomes realized by clients of HUD-funded housing counseling agencies seeking assistance to either purchase a home (pre-purchase clients) or to resolve or prevent a mortgage delinquency (foreclosure mitigation clients). Up to 30 agencies receiving HUD-funding for housing counseling will be recruited to participate voluntarily in the study, with the goal of recruiting 1,000 pre-purchase and 1,000 foreclosure mitigation counseling clients. Each client participating in the study will be asked to complete a baseline questionnaire at the time they are enrolled in the study. Each counseling agency participating will be asked to complete service tracking surveys, for client each time that client is assisted, and counselor information surveys.

DATES: Comments Due Date: June 30, 2008.

ADDRESSES: Interested persons are invited to submit comments regarding this proposal. Comments should refer to the proposal by name and/or OMB approval Number (2528-NEW) and should be sent to: HUD Desk Officer, Office of Management and Budget, New Executive Office Building, Washington, DC 20503; fax: 202-395-6974.

FOR FURTHER INFORMATION CONTACT: Lillian Deitzer, Reports Management Officer, QDAM, Department of Housing and Urban Development, 451 Seventh Street, SW., Washington, DC 20410; e-mail Lillian Deitzer at Lillian_L_Deitzer@HUD.gov or telephone (202) 402-8048. This is not a toll-free number. Copies of available documents submitted to OMB may be obtained from Ms. Deitzer.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice Also Lists the Following Information

Title of Proposal: Data Collection for the Housing Counseling Outcome Evaluation.

OMB Approval Number: 2528-NEW.

Form Numbers: None.

Description of the Need for the Information and its Proposed Use: The study is designed to gather statistically accurate information on outcomes realized by clients of HUD-funded housing counseling agencies seeking assistance to either purchase a home (pre-purchase clients) or to resolve or prevent a mortgage delinquency (foreclosure mitigation clients). Up to 30 agencies receiving HUD-funding for housing counseling will be recruited to participate voluntarily in the study, with the goal of recruiting 1,000 pre-purchase and 1,000 foreclosure mitigation counseling clients. Each client participating in the study will be asked to complete a baseline questionnaire at the time they are enrolled in the study. Each counseling agency participating will be asked to complete service tracking surveys, for each client each time that client is assisted, and counselor information surveys.

Frequency of Submission: On occasion, Other one time.

| Number of respondents | Annual responses | × | Hours per response | = | Burden hours
Reporting Burden | 2,060 | 1 |  | 2.45 |  | 5,060

Total Estimated Burden Hours: 5,060.

Status: New Collection.

Authority: Section 3507 of the Paperwork Reduction Act of 1995, 44 U.S.C. 35, as amended.

Dated: May 22, 2008.
Lillian L. Deitzer,
Departmental Paperwork Reduction Act Officer, Office of the Chief Information Officer.

[FR Doc. E8-11897 Filed 5-28-08; 8:45 am]

BILLING CODE 4210-67-P